DEPARTMENT OF HOUSING AND URBAN DEVELOPMENT

[Docket No. FR-5480-N-49]

Notice of Submission of Proposed Information Collection to OMB; Emergency Comment Request; Notice of Funding Availability (NOFA) for Fiscal Year 2010 Limited English Proficiency Initiative (LEPI) Program; Notice of Proposed Information Collection for Public Comment

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

DATES: Comments Due Date: June 28, 2011.

ADDRESSES: Interested persons are invited to submit comments regarding this proposal. Comments must be received within 14 days from the date of this Notice. Comments should refer to the proposal by name (or OMB approval number) and should be sent to: HUD Desk Officer, Office of Management and Budget, New Executive Office Building, Washington, DC 20503; e-mail: oir_submission@omb.eop.gov; fax: 202-395-3086.

FOR FURTHER INFORMATION CONTACT: Reports Management Officer, QDAM, Department of Housing and Urban Development, 4517th Street, SW., Washington, DC 20410; e-mail colette.pollard@hud.gov; telephone (202) 708-2374. This is not a toll-free number. Copies of available documents submitted to OMB may be obtained from the Reports Management Officer.

SUPPLEMENTARY INFORMATION: This Notice informs the public that the U.S. Department of Housing and Urban Development (HUD) has submitted to OMB, for emergency processing, as described below. The purpose of the LEPI NOFA is to help ensure limited English proficient (LEP) communities have access to information in their native languages on HUD programs, services, and activities. In coordination with local HUD grantees, successful applicants will develop and conduct, workshops, training sessions, and/or disseminate LEP material to the targeted LEP communities. LEP individuals are persons who do not speak English as their primary language and who have a limited ability to read, write, speak, or understand English. Examples of groups likely to include LEP individuals who are encountered and served by HUD grantees include, but are not limited to: (1) Individuals who are seeking housing assistance from a public housing agency or assisted housing provider; (2) individuals seeking assistance for lead-based paint removal or abatement; (3) individuals seeking general fair housing information or information on how to file a housing discrimination complaint, housing-related training, social services, or any other assistance from HUD grantees. HUD programs include, but are not limited to HUD's Offices of Public and Indian Housing, Community Planning and Development, Sustainable Housing and Communities, Fair Housing and Equal Opportunity, Policy Development and Research, Housing, and Healthy Homes and Lead Hazard Control. For additional information, refer to the User's Guide to HUD Programs at: http://archives.hud.gov/funding/2009/snuserguide.pdf. LEP communities are groups of LEP individuals sharing a common language that are located within the intended area to be served and comprise part of the community intended to be served by HUD grantees. The objectives of the LEPI NOFA are to: (1) Identify and meet the needs of the targeted LEP communities; (2) improve the participation of LEP individuals in HUD programs, services, and activities beyond the 12-month grant period; and (3) enhance the dissemination and communication of HUD programs, services, and activities in languages targeted to meet the needs of local communities.

This Notice also lists the following information:

Title of Proposal: Notice of Funding Availability (NOFA) for Fiscal Year 2010 Limited English Proficiency Initiative (LEPI) Program.

Description of Information Collection: The purpose of the LEPI NOFA is to provide direct services to LEP individuals by providing information on accessing HUD programs, services, and activities in languages native to the targeted LEP communities, in coordination with local HUD grantees.

OMB Control Number: 2529-Pending.

Agency Form Numbers: HUD forms have been identified in the Department's General Section.

Members of Affected Public: Qualified non-profit or faith-based community organizations that have engaged in providing LEP services to diverse populations and communities.

Estimation of the Total Numbers of Hours Needed to Prepare the Information Collection Including Number of Respondents, Frequency of Responses, and Hours of Response: Estimation of the total number of hours needed to prepare the information collection is 30. On an annual basis approximately 30 respondents (applicants) will submit one (1) Application to HUD with a burden hour per response of 70 hours. It is estimated that 2 hours for the quarterly reporting period will be required of the recipients to fulfill HUD reporting requirements, for a total of 2,132 burden hours.

Status of the Proposed Information Collection: Proposed new collection.

Authority: The Paperwork Reduction Act of 1995, 44 U.S.C. chapter 35, as amended.

Dated: June 7, 2011.
Colette Pollard,
Departmental Reports Management Officer, Office of the Chief Information Officer.

[FR Doc. 2011-14601 Filed 6-13-11; 8:45 am]

BILLING CODE 4210-67-P